DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than September 2, 2016.

Interested persons are invited to submit written comments regarding the subject matter of the investigations to the Director, Office of Trade Adjustment Assistance, at the address shown below, not later than September 2, 2016.

The petitions filed in this case are available for inspection at the Office of the Director, Office of Trade Adjustment Assistance, Employment and Training Administration, U.S. Department of Labor, Room N-5428, 200 Constitution Avenue NW., Washington, DC 20210.

Signed at Washington, DC, this 12th day of August 2016.
Jessica R. Webster,
Certifying Officer, Office of Trade Adjustment Assistance.

APPENDIX
[46 TAA Petitions instituted between 7/11/16 and 7/22/16]
TA-W | Subject firm (petitioners) | Location | Date of institution | Date of petition
92003 | Hewlett Packard Enterprise (State/One-Stop) | Plano, TX | 07/11/16 | 07/08/16
92004 | Atlas Copco Hurricane LLC (Workers) | Franklin, IN | 07/11/16 | 07/11/16
92005 | CTS Corporation (Company) | Elkhart, IN | 07/11/16 | 07/08/16
92006 | Thermo Fisher Scientific (State/One-Stop) | Chelmsford, MA | 07/11/16 | 06/29/16
92007 | DSI Underground Systems (Workers) | Martinsburg, WV | 07/12/16 | 07/11/16
92008 | Perceptive (Parexel) Informatics (State/One-Stop) | Billerica, MA | 07/12/16 | 07/11/16
92009 | Epicor Software Corporation (Workers) | Westminster, CO | 07/13/16 | 07/12/16
92010 | Atos IT Solutions and Services (State/One-Stop) | Redmond, WA | 07/13/16 | 07/12/16
92011 | GateHouse Media (Lawyers Weekly LLC/Virginia Publishing), Customer Service (State/One-Stop) | Boston, MA | 07/13/16 | 07/11/16
92012 | International Business Machines Corporation (IBM) (State/One-Stop) | Schaumburg and the Atlanta locations, IL | 07/14/16 | 07/13/16
92013 | Fenton Art Glass Company (Workers) | Williamstown, WV | 07/15/16 | 07/08/16
92014 | Chrysler Dundee Engine Plant (Workers) | Dundee, MI | 07/15/16 | 07/13/16
92015 | Mattel, Inc., Mattel Global Shared Service Solutions (MGSSS) (State/One-Stop) | East Aurora, NY | 07/15/16 | 07/13/16
92016 | Erie Bolt Company (EBC) (Union) | Erie, PA | 07/15/16 | 07/14/16
92017 | D & L Oil Tool (State/One-Stop) | Tulsa, OK | 07/15/16 | 07/14/16
92018 | Computer Sciences Corporation (CSC) (State/One-Stop) | Tysons, VA | 07/15/16 | 07/14/16
92019 | Halliburton (Wireline and Perforating) (State/One-Stop) | Houston, TX | 07/15/16 | 07/14/16
92020 | American Light Bulb Manufacturing Inc. (State/One-Stop) | Mullins, SC | 07/18/16 | 07/15/16
92021 | Sanford LP (Company) | Shelbyville, TN | 07/19/16 | 07/18/16
92022 | Indiana Tool & Manufacturing Company, Inc. (Company) | Plymouth, IN | 07/19/16 | 07/19/16
92023 | Alcatel-Lucent Nokia (State/One-Stop) | Naperville, IL | 07/19/16 | 07/18/16
92024 | TEKsystems (State/One-Stop) | El Segundo, CA | 07/19/16 | 07/18/16
92025 | Conmet/Consolidated Metco Inc. (State/One-Stop) | Clackamas, OR | 07/19/16 | 07/18/16
92026 | Daimler Trucks North America, LLC (State/One-Stop) | Portland, OR | 07/19/16 | 07/18/16
92027 | McDonald's Corporation (State/One-Stop) | Columbus, OH | 07/19/16 | 07/18/16
92028 | Alcatel-Lucent Enterprise (ALE) (State/One-Stop) | New Province, NJ | 07/19/16 | 07/18/16
92029 | Control Devices, LLC formerly Flexi-Hinge Valve Co., Inc. (Workers) | Fairview, PA | 07/20/16 | 07/19/16
92030 | Blue Scope Buildings of North America/Blue Scope Steel (State/One-Stop) | Kansas City, MO | 07/20/16 | 07/19/16
92031 | JP Morgan Chase, Hedge Fund Service Division (State/One-Stop) | Brooklyn, NY | 07/20/16 | 07/19/16
92032 | Ralph Lauren (State/One-Stop) | New York, NY | 07/20/16 | 07/19/16
92033 | Viskase Companies, Inc. (Company) | Osceola, AR | 07/20/16 | 07/19/16
92034 | TTM/Viasystems Technologies Corp., LLC (State/One-Stop) | Forest Grove, OR | 07/20/16 | 07/19/16
92035 | Federal Republic of Germany (Company) | Holloman Air Force Base, NM | 07/21/16 | 07/20/16
92036 | ITW Ark-Les (Company) | New Berlin, WI | 07/21/16 | 07/20/16
92037 | Specialty/Euclid Vidaro (Workers) | Asheboro, NC | 07/21/16 | 07/20/16
92038 | Berry Plastics (Company) | Dunkirk, NY | 07/21/16 | 07/20/16
92039A | Norandal USA, Inc. (Company) | Salisbury, NC | 07/21/16 | 07/20/16
92039 | Norandal USA, Inc. (Company) | Huntington, TN | 07/21/16 | 07/20/16
92040 | Willamette Egg Farms (State/One-Stop) | Canby, OR | 07/22/16 | 07/21/16
92041 | Verizon Communications/Enterprise Solutions/Verizon Business Order Pro (State/One-Stop) | Colorado Springs, CO | 07/22/16 | 07/21/16
92042 | Shimadzu USA Manufacturing Inc. (State/One-Stop) | Canby, OR | 07/22/16 | 07/21/16
92043 | SeaChange International, Inc. (State/One-Stop) | Portland, OR | 07/22/16 | 07/21/16
92043A | SeaChange International, Inc. (State/One-Stop) | Milpitas, CA | 07/22/16 | 07/21/16
92044 | Northwest Pipe Company (Company) | Denver, CO | 07/22/16 | 07/21/16
92045 | CH2M (State/One-Stop) | Portland, OR | 07/22/16 | 07/21/16
92046 | Blueprint Consulting Services (State/One-Stop) | Irving, TX | 07/22/16 | 07/22/16

[FR Doc. 2016-20047 Filed 8-22-16; 8:45 am]

BILLING CODE 4510-FN-P